DEPARTMENT OF THE TREASURY

Internal Revenue Service

26 CFR Part 1

[REG-147171-05]

RIN 1545-BF34

Deductions for Entertainment Use of Business Aircraft; Correction

AGENCY: Internal Revenue Service (IRS), Treasury.

ACTION: Correction to notice of proposed rulemaking.

SUMMARY: This document contains corrections to notice of proposed rulemaking that was published in the Federal Register on Friday, June 15, 2007 (72 FR 33169) relating to the use of business aircraft for entertainment.

FOR FURTHER INFORMATION CONTACT: Michael A. Nixon at (202) 622-4930 or Lynne A. Camillo at (202) 622-6040 (not toll-free numbers).

SUPPLEMENTARY INFORMATION:

Background

The notice of proposed rulemaking (REG-147171-05) that is the subject of this correction is under section 274(e) of the Internal Revenue Code.

Need for Correction

As published, the notice of proposed rulemaking (REG-147171-05) contains an error that may prove to be misleading and is in need of clarification.

Correction of Publication

Accordingly, the notice of proposed rulemaking (REG-147171-05) that was the subject of FR Doc. E7-11445 is corrected as follows:

§ 1.274-10 [Corrected]

On page 33176, § 1.274-10(e)(1), column 2, lines 2 and 3 of the fourth full paragraph of the column, the language “General rule. Except as provided in paragraph (f)(4) of this section, for “ is corrected to read “General rule. For”.

Lanita Van Dyke,
Branch Chief, Publications and Regulations Branch, Legal Processing Division, Associate Chief Counsel (Procedure and Administration).

[FR Doc. E7-13498 Filed 7-11-07; 8:45 am]

BILLING CODE 4830-01-P